DEPARTMENT OF TRANSPORTATION

Coast Guard

33 CFR Part 165

[CGD01-00-007]

RIN 2115-AA97

Regulated Navigation Area, Boston, MA

AGENCY: Coast Guard, DOT.

ACTION: Notice of proposed rulemaking.

SUMMARY: The Coast Guard proposes to decrease the safety zone ahead of loaded Liquefied Natural Gas tank vessels while the vessels transit Boston North Channel and Boston Harbor from two (2) miles ahead to one (1) mile ahead of the vessel. This action is necessary to bring the current safety zone into more realistic boundaries due to the configuration of the harbor. This decrease of one mile ahead of the vessel will have no effect on the safety of the transits of these vessels, and will serve to facilitate commerce in Boston Harbor.

DATES: Comments and related material must reach the Coast Guard on or before July 3, 2000.

ADDRESSES: Comments should be made to: Commanding Officer, Marine Safety Office Boston, Attn: LT Mike Antonellis, 455 Commercial Street, Boston, Massachusetts 02109. The Inspections and Investigations Department maintains the public docket for this rulemaking. Comments and material received from the public, as well as documents indicated in this preamble as being available in the docket, will become part of this docket and will be available for inspection or copying at the Coast Guard Marine Safety Office between 8 a.m. and 3 p.m., Monday through Friday, except Federal holidays.

FOR FURTHER INFORMATION CONTACT: LT Mike Antonellis, Marine Safety Office, Boston, Massachusetts 02109; (617) 223-3000.

SUPPLEMENTARY INFORMATION:

Request for Comments

The Coast Guard encourages interested persons to participate in this rulemaking by submitting comments and related material. Each person submitting comments should include their name and address, identify the docket number for this rulemaking (CGD1-00-007), indicate the specific section of this document to which each comment applies, and give the reason for each comment. Comments and related material should be submitted on 8½″×11″ paper in a format suitable for copying. Persons requesting acknowledgement of receipt of comments should enclose a stamped, self-addressed postcard or envelope. All comments and material submitted during the comment period will be considered by the Coast Guard and may change this proposal.

Public Meeting

The Coast Guard has no plans to hold a public meeting. Persons may request a public meeting by writing to Marine Safety Office, Boston, MA at the address under ADDRESSES explaining why one would be beneficial. If the Coast Guard determines that oral presentations would aid this rulemaking, it will hold one at a time and place announced by a later notice in the Federal Register.

Background and Purpose

The purpose of this regulation is to allow for more realistic management of the current safety zone. The current safety zone is for two (2) miles ahead of Liquefied Natural Gas (LNG) tank vessels when transiting Boston Harbor. During these transits, two (2) miles ahead of the vessel is not always visible from the vessel, due to the physical configuration of the harbor.

LNG tank vessels transit Boston Harbor approximately once a week. Currently, a safety zone is in place two (2) miles ahead of a loaded LNG vessel and one (1) mile astern of the vessel while transiting Boston Harbor. The current two (2) mile ahead distance extends beyond the harbor for the majority of the transit. Reducing this distance to one (1) mile will allow a more realistic management of the safety zone by eliminating areas beyond the harbor and main ship channel from the safety zone.

Discussion of Proposed Rule

The existing rule will be amended to reduce the safety zone from two (2) miles ahead to one (1) mile ahead of all Liquefied Natural Gas tank vessels transiting Boston Harbor. The purpose of this regulation is to allow for more realistic management of the current safety zone due to the physical configuration of the harbor.

Regulatory Evaluation

This proposed rule is not a “significant regulatory action” under section 3(f) of Executive Order 12866 and does not require an assessment of potential costs and benefits under section 6(a)(3) of that Order. The Office of Management and Budget has not reviewed it under that Order. It is not significant under the regulatory policies and procedures of the Department of Transportation (DOT) (44 FR 11040, February 26, 1979).

The Coast Guard expects the economic impact of this proposed rule to be so minimal that a full Regulatory Evaluation under paragraph 10e of the regulatory policies and procedures of DOT is unnecessary.

As this proposed rule will decrease the boundaries of an already existing safety zone, the economic impact should be minimal, as fewer entities will be affected by the new safety zone.

Small Entities

Under the Regulatory Flexibility Act (5 U.S.C. 601-612), the Coast Guard considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities.

This proposed rule would affect the following entities, some of which might be small entities: the owners or operators of vessels intending to transit or anchor in a portion of Boston Harbor during Liquefied Natural Gas Carrier transits.

This reduction of the safety zone would not have a significant economic impact on a substantial number of small entities for the following reasons. Although the safety zone would apply to the majority of the harbor, traffic would be allowed to pass through the zone with the permission of the Coast Guard patrol commander. Before the effective period, maritime advisories would be made to notify all users of the harbor.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact LT Mike Antonellis, Marine Safety Office, Boston, MA 02109; (617) 223-3000.

Collection of Information

This proposed rule would call for no new collection of information under the Paperwork Reduction Act of 1995 (44 U.S.C. 3501-3520).

Federalism

The Coast Guard has analyzed this proposed rule under E.O. 13132 and has determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This proposed rule would not impose an unfunded mandate.

Taking of Private Property

This proposed rule would not effect a taking of private property or otherwise have taking implications under E.O. 12630, Governmental Actions and Interference with Constitutionally Protected Property Rights.

Civil Justice Reform

This proposed rule meets applicable standards in sections 3(a) and 3(b)(2) of E.O. 12988, Civil Justice Reform, to minimize litigation, eliminate ambiguity, and reduce burden.

Protection of Children

We have analyzed this proposed rule under E.O. 13045, Protection of Children from Environmental Health Risks and Safety Risks. This rule is not an economically significant rule and does not concern an environmental risk to health or risk to safety that may disproportionately affect children.

Environment

We considered the environmental impact of this proposed rule and concluded that, under figure 2-1, paragraph (34)(g), of Commandant Instruction M16475.lC, this proposed rule is categorically excluded from further environmental documentation. A categorical exclusion is not required for actions that reduce the size of a safety zone.

List of Subjects in 33 CFR Part 165

Harbors, Marine safety, Navigation (water), Reporting and recordkeeping requirements, Security measures, Waterways.

Regulation

For the reasons discussed in the preamble, the Coast Guard proposes to amend 33 CFR part 165 as follows:

PART 165—REGULATED NAVIGATION AREAS AND LIMITED ACCESS AREAS

1. The authority citation for part 165 continues to read as follows:

Authority: 33 U.S.C. 1231; 50 U.S.C. 191; 33 CFR 1.05-1(g), 6.04-6 and 160.5; 49 CFR 1.46.

§ 165.110 [Amended]

2. In § 165.110(a)(1), remove the words “two miles” and add, in its place, the words “one mile”.

Dated: April 3, 2000.
J.R. Whitehead,
Captain, U.S. Coast Guard, Captain of the Port, Boston, Massachusetts.

[FR Doc. 00-10848 Filed 5-1-00; 8:45 am]

BILLING CODE 4910-15-P